DEPARTMENT OF COMMERCE

Foreign-Trade Zones Board

[Docket 79-2011]

Proposed Foreign-Trade Zone; Miami, Florida Area Under Alternative Site Framework

An application has been submitted to the Foreign-Trade Zones (FTZ) Board (the Board) by Miami-Dade County to establish a general-purpose foreign-trade zone at sites in Miami, Florida, within the Miami Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on December 16, 2011. The applicant is authorized to make the proposal under Florida Statutes, title XIX, chapter 288, part III.

The proposed zone would be the fourth general-purpose zone for the Miami CBP port of entry. The existing zones are as follows: FTZ 32, Miami, Florida (Grantee: Greater Miami Foreign Trade Zone Inc., Board Order 123, 09/06/77); FTZ 166, Homestead, Florida (Grantee: Vision Foreign Trade Zone Inc., Board Order 482, 08/17/90); and, FTZ 180, Miami (Wynwood), Florida (Grantee: Wynwood Community Economic Development Corporation, Board Order 543, 11/18/91).

The applicant's proposed service area under the ASF would be the northern half of Miami-Dade County, Florida, delineated by SW 8th Street (SR-90/US 41) as the southern boundary. If approved, the applicant would be able to serve sites throughout the service area based on companies' needs for FTZ designation. The proposed service area is within the Miami Customs and Border Protection port of entry.

The proposed zone would include three “magnet” sites in Miami-Dade County: Proposed Site 1 (520 acres)—Dante B. Fascell Port of Miami, 1015 North America Way, Miami; Proposed Site 2 (423 acres)—Flagler Logistics Hub, 6875 NW 58th Street, Miami; and, Proposed Site 3 (419 acres)—Flagler Station, 10505 NW 112th Avenue, Miami. Site 1 is owned by Miami-Dade County, and Sites 2 and 3 are privately owned. The ASF allows for the possible exemption of one magnet site from the “sunset” time limits that generally apply to sites under the ASF, and the applicant proposes that Site 1 be so exempted.

The application indicates a need for zone services in Miami-Dade County, Florida. Several firms have indicated an interest in using zone procedures for warehousing/distribution activities for a variety of products. Specific manufacturing approvals are not being sought at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is February 21, 2012. Rebuttal comments in response to material submitted during the foregoing period may be submitted during the subsequent 15-day period to March 7, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce @trade.gov or (202) 482-1346.

Dated: December 16, 2011.
Andrew McGilvray,
Executive Secretary.

[FR Doc. 2011-32938 Filed 12-22-11; 8:45 am]

BILLING CODE P